DEPARTMENT OF COMMERCE

International Trade Administration

Rescission of Antidumping and Countervailing Duty Administrative Reviews

AGENCY: Enforcement and Compliance, International Trade Administration, Department of Commerce.

SUMMARY: Based upon the timely withdrawal of all review requests, the U.S. Department of Commerce (Commerce) is rescinding the administrative reviews covering the periods of review (PORs) of the antidumping duty (AD) and countervailing duty (CVD) orders identified in the table below.

DATES: Applicable July 17, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Pursuant to 19 CFR 351.221(c)(1)(i),¹ based upon timely requests for review, Commerce initiated administrative reviews of certain companies for the PORs and the AD and CVD orders listed in the table below. All requests for these reviews have been timely withdrawn.²

¹ See Initiation of Antidumping and Countervailing Duty Administrative Reviews, 89 FR 66035 (August 14, 2024); Initiation of Antidumping and Countervailing Duty Administrative Reviews, 90 FR 8187 (January 27, 2025); Initiation of Antidumping and Countervailing Duty Administrative Reviews, 90 FR 10048 (February 21, 2025); Initiation of Antidumping and Countervailing Duty Administrative Reviews, 90 FR 14081 (March 28, 2025); Initiation of Antidumping and Countervailing Duty Administrative Reviews, 90 FR 17568 (April 28, 2025); and Initiation of Antidumping and Countervailing Duty Administrative Reviews, 90 FR 21459 (May 20, 2025).

² The letters withdrawing the review requests may be found in Enforcement and Compliance's Antidumping and Countervailing Duty Centralized Electronic Service System (ACCESS). ACCESS is available to registered users at https://access.trade.gov.

Rescission of Review

Pursuant to 19 CFR 351.213(d)(1), Commerce will rescind an administrative review, in whole or in part, if the parties that requested the review withdraw their review requests within 90 days of the date of publication of the notice of initiation for the requested review. All parties withdrew their requests for the reviews listed in the table below within the 90-day deadline. No other parties requested administrative reviews of these AD/CVD orders for the PORs noted in the table. Therefore, in accordance with 19 CFR 351.213(d)(1), Commerce is rescinding, in their entirety, the administrative reviews listed in the table below.

| Period of Review
AD Proceedings
Croatia: Common Alloy Aluminum Sheet, A-891-001 | 4/1/2024-3/31/2025
Brazil:
Common Alloy Aluminum Sheet, A-351-854 | 4/1/2024-3/31/2025
Lemon Juice, A-351-858 | 2/1/2024-1/31/2025
Egypt: Common Alloy Aluminum Sheet, A-729-803 | 4/1/2024-3/31/2025
Germany: Common Alloy Aluminum Sheet, A-428-849 | 4/1/2024-3/31/2025
India:
Common Alloy Aluminum Sheet, A-533-895 | 4/1/2024-3/31/2025
Granular Polytetrafluoroethylene Resin, A-533-899 | 3/1/2024-2/28/2025
Indonesia: Common Alloy Aluminum Sheet, A-560-835 | 4/1/2024-3/31/2025
Malaysia: Stainless Steel Butt Weld Pipe Fittings, A-557-809 | 2/1/2024-1/31/2025
Mexico: Large Residential Washers, A-201-842 | 2/1/2024-1/31/2025
Oman: Circular Welded Carbon-Quality Steel Pipe, A-523-812 | 12/1/2023—11/30/2024
Republic of Korea: Forged Steel Fittings, A-580-904 | 12/1/2023-11/30/2024
Romania: Common Alloy Aluminum Sheet, A-485-809 | 4/1/2024-3/31/2025
Serbia: Common Alloy Aluminum Sheet, A-801-001 | 4/1/2024-3/31/2025
South Africa: Lemon Juice, A-791-827 | 2/1/2024-1/31/2025
Slovenia: Common Alloy Aluminum Sheet, A-856-001 | 4/1/2024—3/31/2025
Spain: Common Alloy Aluminum Sheet, A-469-820 | 4/1/2024-3/31/2025
Thailand:
Polyester Textured Yarn, A-549-843 | 12/1/2023-11/30/2024
Prestressed Concrete Steel Wire Strand, A-549-820 | 1/1/2024-12/31/2024
The People's Republic of China:
Calcium Hypochlorite, A-570-008 | 1/1/2024-12/31/2024
Certain Freight Rail Coupler and Parts Thereof, A-570-145 | 3/13/2023-6/30/2024
Certain Frozen Warmwater Shrimp, A-570-893 | 2/1/2024-1/31/2025
Certain Vertical Shaft Engine Between 225CC and 999CC, And Parts of Thereof, A-570-119 | 3/1/2024-2/28/2025
Gas Powered Pressure Washers, A-570-148 | 8/3/2023-1/31/2025
Small Diameter Graphics Electrodes, A-570-929 | 2/1/2024-1/31/2025
Utility Scale Wind Towers, A-570-981 | 2/1/2024-1/31/2025
CVD Proceedings
India:
Brass Rod, C-533-916 | 9/29/2023-12/31/2024
Granular Polytetrafluoroethylene Resin, C-533-900 | 1/1/2024-12/31/2024
The People's Republic of China:
Calcium Hypochlorite, C-570-009 | 1/1/2024-12/31/2024
Gas Powered Pressure Washers, C-570-149 | 6/5/2023-12/31/2024
Truck and Bus Tires, C-570-041 | 1/1/2024-12/31/2024
Utility Scale Wind Towers, C-570-982 | 1/1/2024-12/31/2024

Assessment

Commerce will instruct U.S. Customs and Border Protection (CBP) to assess antidumping and/or countervailing duties on all appropriate entries during the PORs noted above for each of the listed administrative reviews at rates equal to the cash deposit of estimated antidumping or countervailing duties, as applicable, required at the time of entry, or withdrawal of merchandise from warehouse, for consumption, in accordance with 19 CFR 351.212(c)(1)(i). Commerce intends to issue assessment instructions to CBP no earlier than 35 days after the date of publication of this recission notice in the Federal Register for rescinded administrative reviews of AD/CVD orders on countries other than Canada and Mexico. For rescinded administrative reviews of AD/CVD orders on Canada or Mexico, Commerce intends to issue assessment instructions to CBP no earlier than 41 days after the date of publication of this recission notice in the Federal Register, in accordance with 19 CFR 356.8(a).

Notification to Importers

This notice serves as the only reminder to importers of merchandise subject to AD orders of their responsibility under 19 CFR 351.402(f)(2) to file a certificate regarding the reimbursement of antidumping duties and/or countervailing duties prior to liquidation of the relevant entries during the POR. Failure to comply with this requirement could result in the presumption that reimbursement of antidumping duties and/or countervailing duties occurred and the subsequent assessment of doubled antidumping duties.

Notification Regarding Administrative Protective Order (APO)

This notice also serves as the only reminder to parties subject to an APO of their responsibility concerning the disposition of proprietary information disclosed under APO in accordance with 19 CFR 351.305(a)(3), which continues to govern business proprietary information in these segments of these proceedings. Timely written notification of the return or destruction of APO materials or conversion to judicial protective order is hereby requested. Failure to comply with the regulations and the terms of an APO is a sanctionable violation.

Notification to Interested Parties

This notice is issued and published in accordance with sections 751(a)(1) and 777(i)(1) of the Tariff Act of 1930, as amended, and 19 CFR 351.213(d)(4).

Dated: July 11, 2025.
Scot Fullerton,
Acting Deputy Assistant Secretary for Antidumping and Countervailing Duty Operations.

[FR Doc. 2025-13416 Filed 7-16-25; 8:45 am]

BILLING CODE 3510-DS-P